DEPARTMENT OF THE INTERIOR

Bureau of Land Management

[NV-033-02-1230-EA]

Temporary Closure of Public Lands—Recreation Special Events: Nevada, Carson City Field Office

AGENCY: Bureau of Land Management, Interior Department.

ACTION: Temporary closure of affected public lands in Lyon, Storey, Churchill, Carson, Douglas, Mineral and Washoe Counties on and adjacent to permitted special events such as: Motorized Off Highway Vehicle, Mountain Bike, Horse Endurance competitive event sites and routes.

Competitive events (races) are conducted along dirt roads, trails, washes and areas approved for such use through the Special Recreation Use Permit application process. Events occur from April through November, 2002. Closure period is from 6 a.m. race day until race finish or until the event has cleared between affected Check Point locations; approximately 2 to 24 hour periods. The general public will be advised of each event and Closure specifics via local newspapers and mailed public letters within seven (7) to thirty (30) days prior to the running of an event. Event maps and information will be posted at the Carson City Field Office.

Locations most commonly used for permitted events include, but are not limited to:

1. Lemmon Valley MX Area—Washoe Co., T21N R19E S8.

2. Hungry Valley Off Highway Vehicle Area—Washoe Co., T21-23N R20E.

3. Pine Nut Mountains—Carson, Douglas & Lyon Counties: T11-16N R20-24E.

4. Virginia City/Jumbo Areas—Washoe & Storey Counties: T16-17N R20-21E.

5. Yerington/Weeks Areas—Lyon Co.: T12-16N R23-27E.

6. Fallon Area (Including Sand Mtn.)—Churchill Co.: T14-18N R27-32E.

7. Hawthorne Area—Mineral County: T5-14N R31½-36E.

SUMMARY: The Assistant Manager, Non-Renewable Resources announces the temporary closure of selected public lands under his administration. Persons with authorization to utilize the area by BLM regulations, contracts, leases or permits, may use the area described in accordance with those authorizations. Nothing in this closure affects the exercise of valid existing rights created by a contract, right of way, lease, permit of mining claim that is carried out in accordance with the regulations under which the rights were established. This action is taken to provide for public and participant safety and to protect adjacent natural and cultural resources during the conduct of permitted special recreation events.

EFFECTIVE DATES: April through November, 2002. Events may be canceled or rescheduled at short notice.

FOR FURTHER INFORMATION CONTACT: Fran Hull, Outdoor Recreation Planner, Carson City Field Office, Bureau of Land Management, 5665 Morgan Mill Road, Carson City, Nevada 89701, Telephone: (775) 885-6161.

SUPPLEMENTARY INFORMATION: Bureau lands to be temporarily closed to public use include the width and length of those roads and trails identified as the race route by colorful flagging, chalk arrows in the dirt and directional arrows attached to wooden stakes. The authorized applicants or their representatives are required to post warning signs, control access to, and clearly mark the event routes during closure periods.

Public uses generally affected by a Temporary Closure include: road and trail uses, camping, shooting of any kind of weapon including paint ball, and public land exploration.

Spectator and support vehicles may be driven on open roads only. Spectators may observe the races from specified locations as directed by event and agency officials.

A map and schedule of each closure area may be obtained at the contact address.

Exemptions: Closure restrictions do not apply to race officials, medical/rescue, law enforcement and agency personnel monitoring the event.

Authority: 43 CFR part 8364 and 43 CFR part 8372.

Penalty: Any person failing to comply with the closure orders may be subject to imprisonment for not more than 12 months, or a fine in accordance with the applicable provisions of 18 USC 3571, or both.

Dated: February 11, 2002.
Charles P. Pope,
Acting Assistant Manager, Non-renewable Resources.

[FR Doc. 02-6780 Filed 3-20-02; 8:45 am]

BILLING CODE 4310-HC-P